DEPARTMENT OF HOMELAND SECURITY

Federal Emergency Management Agency

44 CFR Part 67

[Docket ID FEMA-2010-0003; Internal Agency Docket No. FEMA-B-1093]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 2, 2010.

ADDRESSES: The corresponding preliminary Flood Insurance Rate Map (FIRM) for the proposed BFEs for each community is available for inspection at the community's map repository. The respective addresses are listed in the table below.

You may submit comments, identified by Docket No. FEMA-B-1093, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Douglas County, Illinois, and Incorporated Areas
Bourbon No. 3 | Approximately 0.4 mile downstream of Vine Street | None | +654 | Unincorporated Areas of Douglas County.
| At Vine Street | None | +658
Embarras River | Approximately 0.7 mile upstream of U.S. Route 36 | None | +641 | Village of Camargo.
| Approximately 0.5 mile upstream of Main Street | None | +644
Lake Fork | Approximately 900 feet downstream of U.S. Route 36 | None | +657 | Village of Atwood.
| Approximately 100 feet downstream of U.S. Route 36 | None | +657
West Ditch | Approximately 50 feet downstream of Sycamore Street | +649 | +650 | City of Villa Grove, Unincorporated Areas of Douglas County.
| Approximately 0.41 mile upstream of Harrison Street | None | +651
West Fork Kaskaskia River | At the railroad | None | +653 | Unincorporated Areas of Douglas County.
| Approximately 300 feet upstream of County Road 500 North | None | +655
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Villa Grove
Maps are available for inspection at City Hall, 612 East Front Street, Villa Grove, IL 61956.
Unincorporated Areas of Douglas County
Maps are available for inspection at the Douglas County Courthouse, 401 South Center Street, Tuscola, IL 61953.
Village of Atwood
Maps are available for inspection at the Atwood Municipal Building, 110 West Central Avenue, Atwood, IL 61913.
Village of Camargo
Maps are available for inspection at the Douglas County Courthouse, 401 South Center Street, Tuscola, IL 61953.
Mason County, Illinois, and Incorporated Areas
Ponding | North boundary: Private drive approximately 230 feet north of north entrance to Linwood Lake Estates Road/East boundary: Abandoned road approximately 660 feet west of Highway 78/South boundary: Private drive approximately 665 feet north of beginning of North Elm Street/West boundary: Highway 78 | None | +466 | Unincorporated Areas of Mason County.
Ponding | North boundary: Approximately 2,470 feet north of County Highway 1/East boundary: Approximately 0.86 mile east of Olive Street along County Highway 1/South boundary: 385 feet south of County Highway 1/West boundary: Approximately 0.49 mile east of Olive Street along County Highway 1 | None | +471 | Unincorporated Areas of Mason County.
Ponding | North boundary: Approximately 1,300 feet south of County Highway 1/East boundary: Approximately 0.54 mile east of southeastern tip of East Main Street/South boundary: Approximately 0.72 mile south of County Highway 1/West boundary: Approximately 300 feet east of southeastern tip of East Main Street | None | +472 | Unincorporated Areas of Mason County.
Ponding | North boundary: 330 feet south of B Street along Highway 78/East boundary: At Highway 78/South boundary: Approximately 810 feet south of B Street along Highway 78/West boundary: 425 feet west of Highway 78 | None | +465 | Unincorporated Areas of Mason County.
Ponding | North boundary: Approximately 1,030 feet north of East 800 North Road along North 1100 East Road/East boundary: Approximately 930 feet east of North 1100 East Road/South boundary: Approximately 1,580 feet south of intersection of East 800 North Road and North 1100 East Road/West boundary: Approximately 1,950 feet east of Highway 78 | None | +465 | Unincorporated Areas of Mason County.
Ponding | North boundary: At East 800 North Road/East boundary: Approximately 1,380 feet east of Highway 78/South boundary: Approximately 275 feet north of East 750 North Road/West boundary: At Highway 78 | None | +462 | Unincorporated Areas of Mason County.
Ponding | North boundary: Approximately 830 feet north of Hurst Street/East boundary: Approximately 1,200 feet east of Promenade Street along railroad/South boundary: Approximately 760 feet north of Hurst Street/West boundary: Approximately 770 feet west of Promenade Street along railroad | None | +460 | Unincorporated Areas of Mason County.
Ponding | North boundary: Approximately 430 feet north of Mason Street/East boundary: Approximately 310 feet west of William Boulevard/South boundary: At Mason Street/West boundary: At Mason Street and railroad crossing | None | +468 | Unincorporated Areas of Mason County.
Ponding | North boundary: Approximately 240 feet north of Mason Street/East boundary: Approximately 0.59 mile west of North 1800 East Road/South boundary: Approximately 1,090 feet north of U.S. Route 136/West boundary: Approximately 1,050 feet east of William Boulevard | None | +472 | Unincorporated Areas of Mason County.
Ponding | North boundary: Approximately 1,230 feet south of intersection of Maywood Street and Oakwood Avenue/East boundary: Approximately 75 feet east of railroad/South boundary: Approximately 1,290 feet south of intersection of Maywood Street and Oakwood Avenue/West boundary: Approximately 25 feet east of railroad | None | +468 | Unincorporated Areas of Mason County.
Ponding | North boundary: Approximately 125 feet south of Hillcrest Court extended/East boundary: At railroad/South boundary: Approximately 500 feet south of Hillcrest Court extended/West boundary: Approximately 75 feet west of railroad | None | +476 | Unincorporated Areas of Mason County.
Ponding | North boundary: Approximately 970 feet south of Highway 97 railroad crossing/East boundary: Approximately 480 feet from end of Hillcrest Court/South boundary approximately 1,550 feet south of Highway 97 railroad crossing/West boundary: At railroad | None | +476 | Unincorporated Areas of Mason County.
Ponding | North boundary: Approximately 0.51 mile north of East 1500 North Road/East boundary: Approximately 140 feet west of Highway 97/South boundary: Approximately 0.47 mile north of East 1500 North Road/West boundary: Approximately 465 feet west of Highway 97 | None | +476 | Unincorporated Areas of Mason County.
Ponding | North boundary: Approximately 1,470 feet north of East 1500 North Road/East boundary: Approximately 0.6 mile west of North 1800 East Road/South boundary: Approximately 940 feet south of intersection of Highway 97 and East 1500 North Road/West boundary: Approximately 625 feet west of intersection of Highway 97 and East 1500 North Road | None | +480 | Unincorporated Areas of Mason County.
Ponding | North boundary: Approximately 0.68 mile north of East 1500 North Road/East boundary: Approximately 0.41 mile west of North 1800 East Road/South boundary: Approximately 250 feet south of East 1500 North Road/West boundary: Approximately 1,460 feet west of Highway 97 | None | +480 | Unincorporated Areas of Mason County.
Ponding | North boundary: Private drive approximately 665 feet north of beginning of North Elm Street/East boundary: Approximately 1,000 feet east of Vine Street/South boundary: Approximately 315 feet north of East 800 North Road/West boundary: Approximately at Highway 78 | None | +463 | Village of Bath.
Ponding | North boundary: Approximately 250 feet south of County Highway 1/East boundary: Approximately 1,950 feet east of intersection of Olive Street and Cedar Street/South boundary: Approximately 2,000 feet south of intersection of Hickory Street and Main Street/West boundary: 980 feet east of southern tip of Locust Street | None | #1 | Village of Bath.
Ponding | North boundary: At Lincoln Street/East boundary: 50 feet west of Highway 78/South boundary: At northernmost entrance to Bath Cemetery/West boundary: Approximately 400 feet west of Highway 78 along 1st Street | None | #3 | Village of Bath.
Ponding | North boundary: 225 feet south of 4th Street/East boundary: Approximately 140 feet east of Highway 78/South boundary: Approximately 200 feet north of B Street/West boundary: At Highway 78 | None | +463 | Village of Bath.
Ponding | North boundary: Approximately 600 feet north of Hurst Street/East boundary: Approximately 125 feet west of Promenade Street/South boundary: Approximately 420 feet north of Hurst Street/West boundary: Approximately 330 feet east of Pearl Street extended | None | +460 | City of Havana.
Ponding | North boundary: Approximately 415 feet north of Hurst Street/East boundary: At Promenade Street/South boundary: Approximately 500 feet north of Mound Street/West boundary: Approximately 365 feet east of intersection of Pearl Street and Hurst Street | None | +460 | City of Havana.
Ponding | North boundary: Approximately 100 feet south of Mound Street/East boundary: At Promenade Street/South boundary: Approximately 220 feet south of Mound Street/West boundary: Approximately 240 feet east of High Street | None | +460 | City of Havana.
Ponding | North boundary: Approximately 60 feet north of Mason Street/East boundary: At Teal Drive/South boundary: At Mason Street/West boundary: Approximately 175 feet west of Teal Drive | None | +468 | City of Havana.
Ponding | North boundary: Approximately 20 feet north of Mason Street/East boundary: At Mason Street railroad crossing/South boundary: At Mason Street/West boundary: Approximately 125 feet west of Teal Drive | None | +468 | City of Havana.
Ponding | North boundary: Approximately 470 feet north of Mason Street/East boundary: Approximately 1,030 feet east of William Boulevard along Mason Street/South boundary: Approximately 1,300 feet north of Laurel Street/West boundary: At railroad (560 feet east of Teal Drive) | None | +468 | City of Havana.
Ponding | North boundary: At Mason Street/East boundary: At railroad (560 feet east of Teal Drive)/South boundary: At Adams Street/West boundary: Approximately 230 feet west of Promenade Street along Main Street | None | +468 | City of Havana.
Ponding | North boundary: Approximately 915 feet south of Laurel Street/East boundary: Approximately 250 feet west of railroad (560 feet east of Teal Drive)/South boundary: Approximately 410 feet north of East 1600 North Road/West boundary: At Highway 97 | None | +472 | City of Havana.
Ponding | North boundary: At Windsor Street/East boundary: At Highway 97/South boundary: Approximately 800 feet north of East 1600 North Road along Highway 97/West boundary: Approximately 50 feet west of Highway 97 | None | +472 | City of Havana.
Ponding | North boundary: Approximately 350 feet north of East 1600 North Road/East boundary: Approximately 375 feet west of Highway 97/South boundary: Approximately 275 feet north of East 1600 North Road/West boundary: Approximately 415 feet east of McKinley Street | None | +472 | City of Havana.
Ponding | North boundary: Approximately 140 feet south of East 1600 North Road/East boundary: Approximately 330 feet west of Highway 97/South boundary: Approximately 740 feet south of East 1600 North Road/West boundary: Approximately 500 feet west of Highway 97 | None | +472 | City of Havana.
Ponding | North boundary: Approximately 80 feet south of intersection of Tinkham Street and Lincoln Street/East boundary: Approximately 535 feet west of Promenade Street/South boundary: Approximately 375 feet south of intersection of Tinkham Street and Lincoln Street/West boundary: Approximately 610 feet west of Promenade Street | None | +472 | City of Havana.
Ponding | North boundary: Approximately 75 feet south of intersection of Schrader Street and 1st Street/East boundary: Approximately 40 feet west of 1st Street/South boundary: Approximately 110 feet north of Oakwood Avenue/West boundary: Approximately 105 feet east of Highway 78 | None | +467 | City of Havana.
Ponding | North boundary: Approximately 230 feet south of intersection of Dearborn Street and Water Street/East boundary: Approximately 75 feet east of Highway 78/South boundary: At intersection of Tinkham Street and Water Street/West boundary: Approximately 55 feet west of Highway 78 | None | +467 | City of Havana.
Ponding | North boundary: At intersection of Water Street and 10th Street/East boundary: Approximately 160 feet east of railroad that runs parallel to Maywood Street/South boundary: Approximately 230 feet south of Water Street railroad crossing/West boundary: At Water Street | None | #3 | City of Havana.
Ponding | North boundary: Approximately 810 feet south of Wagner Avenue/East boundary: Approximately 580 feet east of Pear Street/South boundary: Approximately 1,460 feet south of Wagner Avenue/West boundary: Approximately at Pear Street | None | +469 | City of Havana.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Havana
Maps are available for inspection at City Hall, 227 West Main Street, Havana, IL 62644.
Unincorporated Areas of Mason County
Maps are available for inspection at the Mason County Courthouse, County Zoning Office, 125 North Plum Street, Havana, IL 62644.
Village of Bath
Maps are available for inspection at the Village Hall, 205 East 1st Street, Bath, IL 62617.
Des Moines County, Iowa, and Incorporated Areas
Mississippi River | Approximately 6.6 miles downstream of Burlington Northern Railroad | +531 | +532 | City of Burlington, Unincorporated Areas of Des Moines County.
| Approximately 13.7 miles upstream of Lock and Dam No. 18 | +542 | +543
Spring Creek | Approximately 0.6 mile downstream of Summer Street | None | +533 | Unincorporated Areas of Des Moines County.
| Approximately 0.5 mile downstream of Summer Street | None | +534
Unnamed Tributary (Backwater from Long Creek) | Approximately 1,100 feet upstream of the confluence with Long Creek | None | +700 | Town of Danville.
| Approximately 1,400 feet upstream of the confluence with Long Creek | None | +700
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Burlington
Maps are available for inspection at City Hall, 400 Washington Street, Burlington, IA 52601.
Unincorporated Areas of Des Moines County
Maps are available for inspection at 200 North Front Street, Suite 400, Burlington, IA 52601.
Town of Danville
Maps are available for inspection at City Hall, 105 West Shepherd Street, Danville, IA 52623.
Dubuque County, Iowa, and Incorporated Areas
Mississippi River | Approximately 11.1 miles downstream of the confluence with Catfish Creek | +605 | +606 | City of Dubuque, Unincorporated Areas of Dubuque County.
| Approximately 17.5 miles upstream of Lock and Dam 11 | +615 | +616
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Dubuque
Maps are available for inspection at City Hall, 50 West 13th Street, Dubuque, IA 52001.
Unincorporated Areas of Dubuque County
Maps are available for inspection at 720 Central Avenue, Dubuque, IA 52001.
Louisa County, Iowa, and Unincorporated Areas
Mississippi River | Approximately 8.3 miles downstream of the confluence with the Iowa River | +543 | +544 | Unincorporated Areas of Louisa County.
| Approximately 1.4 miles upstream of the confluence with Michaels Creek | +553 | +552
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Louisa County
Maps are available for inspection at the Louisa County Courthouse, 117 South Main Street, Wapello, IA 52653.
Nelson County, Kentucky, and Incorporated Areas
Beech Fork Tributary 27 (Backwater effects from Beech Fork) | From the confluence with Beech Fork to just downstream of Martha Layne Collins Bluegrass Parkway | None | +480 | Unincorporated Areas of Nelson County.
Beech Fork Tributary 29 (Backwater effects from Beech Fork) | From the confluence with Beech Fork to approximately 0.8 mile upstream of the confluence with Beech Fork | None | +478 | Unincorporated Areas of Nelson County.
Buffalo Creek (Backwater effects from Beech Fork) | From the confluence with Beech Fork to just downstream of Boston Road | None | +482 | Unincorporated Areas of Nelson County.
Cedar Creek (Backwater effects from Beech Fork) | From the confluence with Beech Fork to approximately 1,710 feet upstream of the confluence with Cedar Creek Tributary 12 | None | +475 | Unincorporated Areas of Nelson County.
David Run (Backwater effects from Rolling Fork) | From the confluence with Rolling Fork to approximately 0.7 mile upstream of the confluence with Rolling Fork | None | +467 | Unincorporated Areas of Nelson County.
Price Creek (Backwater effects from Rolling Fork) | From the confluence with Rolling Fork to approximately 0.6 mile upstream of the confluence with Price Creek Tributary 7 | None | +465 | Unincorporated Areas of Nelson County.
Price Creek Tributary 7 (Backwater effects from Rolling Fork) | From the confluence with Price Creek to approximately 0.5 mile upstream of the confluence with Price Creek | None | +465 | Unincorporated Areas of Nelson County.
Rowan Creek (Backwater effects from Beech Fork) | From the confluence with Beech Fork to approximately 1,140 feet upstream of the confluence with Town Creek | +487 | +486 | City of Bardstown, Unincorporated Areas of Nelson County.
Taylorsville Lake | Entire shoreline of Taylorsville Lake | None | +592 | Unincorporated Areas of Nelson County.
Timber Creek (Backwater effects from Taylorsville Lake) | From the confluence with Taylorsville Lake to approximately 0.7 mile downstream of Highview Church Road | None | +592 | Unincorporated Areas of Nelson County.
Town Creek (Backwater effects from Beech Fork) | From the confluence with Rowan Creek to approximately 585 feet upstream of the confluence with Rowan Creek | +487 | +486 | City of Bardstown, Unincorporated Areas of Nelson County.
Vittow Creek (Backwater effects from Rolling Fork) | From the confluence with Rolling Fork to approximately 0.6 mile upstream of the confluence with Rolling Fork | None | +463 | Unincorporated Areas of Nelson County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Bardstown
Maps are available for inspection at City Hall, 220 North 5th Street, Morgantown, KY 42261.
Unincorporated Areas of Nelson County
Maps are available for inspection at the Nelson County Courthouse, 113 East Stephen Foster Avenue, Morgantown, KY 42261.
Taylor County, Kentucky, and Incorporated Areas
Brushy Fork (Backwater effects from Green River Lake) | From the confluence with Long Branch to approximately 0.4 mile upstream of the confluence with Long Branch | None | +713 | Unincorporated Areas of Taylor County.
Green River Lake | Entire shoreline | None | +713 | Unincorporated Areas of Taylor County.
Green River Tributary 24.2 (Backwater effects from Green River Lake) | From the confluence with Green River Lake to approximately 1,300 feet upstream of the confluence with Green River Lake | None | +713 | Unincorporated Areas of Taylor County.
Long Branch (Backwater effects from Green River Lake) | From the confluence with Green River Lake to approximately 1,022 feet upstream of the confluence with Brushy Fork | None | +713 | Unincorporated Areas of Taylor County.
Opossum Branch (Backwater effects from Green River Lake) | From the confluence with Robinson Creek to approximately 1,716 feet upstream of the confluence with Robinson Creek | None | +713 | Unincorporated Areas of Taylor County.
Robinson Creek (Backwater effects from Green River Lake) | From the confluence with Green River Lake to approximately 730 feet downstream of the confluence with Duton Creek | None | +713 | Unincorporated Areas of Taylor County.
Robinson Creek Tributary 1 (Backwater effects from Green River Lake) | From the confluence with Green River Lake to approximately 0.6 mile upstream of the confluence with Green River Lake | None | +713 | Unincorporated Areas of Taylor County.
Robinson Creek Tributary 10 (Backwater effects from Robinson Creek) | From the confluence with Robinson Creek to approximately 88 feet upstream of Bradfordsville Road | None | +741 | Unincorporated Areas of Taylor County.
Robinson Creek Tributary 12 (Backwater effects from Robinson Creek) | From the confluence with Robinson Creek to approximately 1,166 feet upstream of the confluence with Robinson Creek | None | +732 | Unincorporated Areas of Taylor County.
Robinson Creek Tributary 7 (Backwater effects from Robinson Creek) | From the confluence with Robinson Creek to approximately 1,855 feet upstream of the confluence with Robinson Creek | None | +750 | Unincorporated Areas of Taylor County.
Robinson Creek Tributary 8 (Backwater effects from Robinson Creek) | From the confluence with Robinson Creek to approximately 1,041 feet upstream of the confluence with Robinson Creek | None | +744 | Unincorporated Areas of Taylor County.
Robinson Creek Tributary 9 (Backwater effects from Robinson Creek) | From the confluence with Robinson Creek to approximately 55 feet upstream of Bradfordsville Road | None | +743 | Unincorporated Areas of Taylor County.
Sprat Branch (Backwater effects from Green River Lake) | From the confluence with Green River Lake to approximately 0.7 mile upstream of Elkhorn Road | None | +713 | Unincorporated Areas of Taylor County.
Stone Quarry Creek (Backwater effects from Green River Lake) | From the confluence with Green River Lake to approximately 1,010 feet upstream of the confluence with Stone Quarry Creek Tributary 5 | None | +713 | Unincorporated Areas of Taylor County.
Stone Quarry Creek Tributary 5 (Backwater effects from Green River Lake) | From the confluence with Stone Quarry Creek to approximately 845 feet upstream of the confluence with Stone Quarry Creek | None | +713 | Unincorporated Areas of Taylor County.
Stoner Creek (Backwater effects from Green River Lake) | From the confluence with Robinson Creek to approximately 1.2 miles upstream of the confluence with Robinson Creek | None | +713 | Unincorporated Areas of Taylor County.
Tallow Creek Tributary 4 (Backwater effects from Tallow Creek) | From the confluence with Tallow Creek to approximately 920 feet upstream of Bradfordsville Road | None | +831 | Unincorporated Areas of Taylor County. | Wilson Creek (Backwater effects from Green River Lake) | From the confluence with Green River Lake to approximately 1,630 feet upstream of the confluence with Wilson Creek Tributary 14 | None | +713 | Unincorporated Areas of Taylor County.
Wilson Creek Tributary 14 (Backwater effects from Green River Lake) | From the confluence with Wilson Creek to approximately 670 feet upstream of the confluence with Wilson Creek | None | +713 | Unincorporated Areas of Taylor County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Taylor County
Maps are available for inspection at the Taylor County Judicial Center, 300 East Main Street, Campbellsville, KY 42718.
Clay County, Mississippi, and Incorporated Areas
Tombigbee River | Approximately 1.7 mile upstream of the confluence with Tibbee Creek | +176 | +177 | Unincorporated Areas of Clay County.
| Approximately 4.2 miles upstream of the confluence with Town Creek East | +187 | +188
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Clay County
Maps are available for inspection at the Clay County Courthouse, 205 Court Street, West Point, MS 39773.
Grenada County, Mississippi, and Incorporated Areas
Grenada Lake | Entire shoreline within Grenada County | None | +237 | City of Grenada, Unincorporated Areas of Grenada County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Grenada
Maps are available for inspection at City Hall, 108 South Main Street, Grenada, MS 38901.
Unincorporated Areas of Grenada County
Maps are available for inspection at the Grenada County Courthouse, 59 Green Street, Room 1, Grenada, MS 38901.
Lawrence County, Mississippi, and Incorporated Areas
Runnels Creek | Approximately 0.5 mile downstream of Robinwood Road | +192 | +193 | Town of Monticello, Unincorporated Areas of Lawrence County.
| Approximately 100 feet downstream of Robinwood Road | +192 | +193
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Monticello
Maps are available for inspection at 202 Jefferson Street South, Monticello, MS 39654.
Unincorporated Areas of Lawrence County
Maps are available for inspection at 435 Brinson Street, Monticello, MS 39564.
Dade County, Missouri, and Incorporated Areas
Stockton Lake | Entire shoreline | None | +887 | Unincorporated Areas of Dade County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Dade County
Maps are available for inspection at 300 West Water Street, Greenfield, MO 65661.
St. Francois County, Missouri, and Incorporated Areas
Flat River | Approximately 375 feet downstream of the confluence with Walker Branch | None | +683 | City of Desloge, City of Park Hills, Unincorporated Areas of St. Francois County.
| At St. Joe Drive | None | +701
| Approximately 875 feet downstream of East Elvins Boulevard | None | +750
| Approximately 3,000 feet upstream of State Highway 32 | None | +784
Kennedy Branch | Approximately 425 feet downstream of County Highway F | None | +837 | City of Farmington, Unincorporated Areas of St. Francois County.
| Approximately 1,400 feet upstream of Middle Street | +894 | +893
Koen Creek | Approximately 100 feet upstream of the City of Park Hills and City of Desloge corporate limits | None | +695 | City of Desloge, City of Park Hills, Unincorporated Areas of St. Francois County.
| Approximately 2,350 feet upstream of Hurryville Road | None | +846
Koen Creek Tributary | Approximately 325 feet upstream of the confluence with Koen Creek | None | +718 | City of Park Hills, Unincorporated Areas of St. Francois County.
| Approximately 100 feet upstream of 5th Street | None | +792
Shaw Creek | Approximately 700 feet upstream of the confluence with Flat Creek | None | +732 | City of Park Hills, Unincorporated Areas of St. Francois County.
| Approximately 2,000 feet upstream of City of Park Hills corporate limits | None | +767
St. Francois River | Approximately 150 feet upstream of the City of Farmington corporate limits | None | +844 | City of Farmington, Unincorporated Areas of St. Francois County.
| Approximately 50 feet upstream of County Highway W | None | +859
St. Francois Tributary | Approximately 750 feet upstream of the confluence with the St. Francois River | None | +846 | City of Farmington, Unincorporated Areas of St. Francois County.
| Approximately 75 feet upstream of County Highway W | +878 | +881
| Approximately 925 feet downstream of Liberty Street | None | +896
| Approximately 200 feet upstream of the City of Farmington corporate limits | None | +910
Walker Branch | Approximately 600 feet upstream of the confluence with the Flat River | None | +685 | Unincorporated Areas of St. Francois County.
| Approximately 7,000 feet upstream of Halter Road | None | +783
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Desloge
Maps are available for inspection at 300 North Lincoln, Desloge, MO 63601.
City of Farmington
Maps are available for inspection at 110 West Columbia Street, Farmington, MO 63640.
City of Park Hills
Maps are available for inspection at 9 Bennet Street, Park Hills, MO 63601.
Unincorporated Areas of St. Francois County
Maps are available for inspection at 1 West Liberty Street, 2nd Floor, Farmington, MO 63640.
Wayne County, Missouri, and Incorporated Areas
Clearwater Lake | Entire shoreline in Wayne County | None | +572 | Unincorporated Areas of Wayne County.
Lake Wappapello | Entire shoreline in Wayne County | None | +403 | Unincorporated Areas of Wayne County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Wayne County
Maps are available for inspection at 109 Walnut Street, Greenville, MO 63944.
Greenwood County, South Carolina, and Incorporated Areas
Lake Greenwood | Entire shoreline within Greenwood County | None | +442 | Unincorporated Areas of Greenwood County.
Ninety-Six Creek | Approximately 1.0 mile downstream of U.S. Route 702 | None | +399 | Unincorporated Areas of Greenwood County.
| Approximately 1,655 feet upstream of U.S. Route 702 | None | +403
Rocky Creek Tributary | Approximately 516 feet downstream of Bypass 72 | None | +575 | City of Greenwood.
| Approximately 2,177 feet upstream of Bypass 72 | None | +590
Saluda River | Approximately 3.9 miles downstream of U.S. Route 25 | None | +448 | Town of Ware Shoals, Unincorporated Areas of Greenwood County.
| Approximately 200 feet upstream of Saluda Avenue | None | +531
Sample Branch | Approximately 1,206 feet upstream of the confluence with Rocky Creek | None | +527 | Unincorporated Areas of Greenwood County, City of Greenwood.
| Approximately 130 feet upstream of Dry Branch Court | None | +563
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Greenwood
Maps are available for inspection at City Hall, 520 Monument Street, Greenwood, SC 29648.
Town of Ware Shoals
Maps are available for inspection at the Town Hall, 8 Mill Street, Ware Shoals, SC 29692.
Unincorporated Areas of Greenwood County
Maps are available for inspection at the Greenwood County Courthouse, 600 Monument Street, Greenwood, SC 29646.

(Catalog of Federal Domestic Assistance No. 97.022, “Flood Insurance.”)

Dated: April 15, 2010.
Sandra K. Knight,
Deputy Federal Insurance and Mitigation Administrator, Mitigation, Department of Homeland Security, Federal Emergency Management Agency.

[FR Doc. 2010-10342 Filed 5-3-10; 8:45 am]

BILLING CODE 9110-12-P